DEPARTMENT OF THE INTERIOR

Fish and Wildlife Service

Aquatic Nuisance Species Task Force Gulf and South Atlantic Regional Panel Meeting

AGENCY: Fish and Wildlife Service, Interior.

ACTION: Notice of meeting.

SUMMARY: This notice announces a meeting of the Aquatic Nuisance Species (ANS) Task Force Gulf and South Atlantic Regional Panel. The meeting is open to the public. The meeting topics are identified in the SUPPLEMENTARY INFORMATION section.

DATES: The Gulf and South Atlantic Regional Panel will meet from 9 a.m. to 5 p.m. on Thursday, May 12, 2005, and 9 a.m. to noon on Friday, May 13, 2005.

ADDRESSES: The Gulf and South Atlantic Regional Panel meeting will be held at the Wyndham Casa Marine Resort, 1500 Reynolds Street, Key West, Florida 33040; (305) 296-3535 or (800) 626-0777. Minutes of the meeting will be maintained in the office of Division of Environmental Quality, Chief, Branch of Invasive Species, U.S. Fish and Wildlife Service, Suite 322, 4401 North Fairfax Drive, Arlington, Virginia 22203-1622.

FOR FURTHER INFORMATION CONTACT: Ron Lukens, Gulf and South Atlantic Regional Panel Chair and Assistant Director, Gulf States Marine Fisheries Commission, at (228) 875-5912.

SUPPLEMENTARY INFORMATION: Pursuant to section 10(a)(2) of the Federal Advisory Committee Act (5 U.S.C. App. I), this notice announces the meeting of the ANS Task Force Gulf and South Atlantic Regional Panel. The ANS Task Force was established by the Nonindigenous Aquatic Nuisance Prevention and Control Act of 1990. The Gulf of Mexico Regional Panel was established by the ANS Task Force in 1999, and renamed the Gulf and South Atlantic Regional Panel in 2004. The Gulf and South Atlantic Regional Panel, comprised of representatives from Federal, State, local agencies and from private environmental and commercial interests, performs the following activities:

a. Identifies priorities for activities in the Gulf of Mexico and the South Atlantic region,

b. Develops and submits recommendations to the national ANS Task Force,

c. Coordinates ANS program activities in the Gulf of Mexico and the South Atlantic region,

d. Advises public and private interests on control efforts, and

e. Submits an annual report to the Aquatic Nuisance Species Task Force describing activities within the Gulf of Mexico and South Atlantic region related to ANS prevention, research, and control.

The Panel membership includes six Gulf of Mexico and South Atlantic States: Alabama, Florida, Georgia, Louisiana, Mississippi, and Texas. The Gulf and South Atlantic Regional Panel will discuss several topics at this meeting including: an overview from the Exotic Pest Plant Council; participation in the Habitattitude™ initiative; South Carolina's membership in the panel; Status of State plans for member States; the panel's 5-year strategic plan; Risk Assessment training; research on introduced fish in Florida Natural Areas; Hazard Analysis and Critical Control Point training; brown treesnake update; Southeast Aquatic Resources Partnership; Rapid Response Plans; ANS Task Force update; National Invasive Species Council/Invasive Species Advisory Committee; recommendations for the ANS Task Force; and updates from Panel members.

Dated: April 21, 2005.
Mamie A. Parker,
Co-Chair, Aquatic Nuisance Species Task Force, Assistant Director—Fisheries & Habitat Conservation.

[FR Doc. 05-9020 Filed 5-2-05; 4:19 pm]

BILLING CODE 4310-55-P